DEPARTMENT OF STATE

[Public Notice 4507]

30-Day Notice of Proposed Information Collection: Form DS-3072, Emergency Loan Application and Evacuation Documentation, OMB Control Number 1405-0150

AGENCY: Department of State.

ACTION: Notice.

SUMMARY: The Department of State has submitted the following information collection request to the Office of Management and Budget (OMB) for review and approval in accordance with the emergency review procedures of the Paperwork Reduction Act of 1995.

Type of Request: Extension of Currently Approved Collection.

Originating Office: Bureau of Consular Affairs (CA/OCS/PRI).

Title of Information Collection: Emergency Loan Application and Evacuation Documentation.

Frequency: On occasion.

Form Number: DS-3072.

Respondents: U.S. citizens abroad (and third country nationals, where eligible) who need evacuation, repatriation, or emergency medical and dietary assistance.

Estimated Number of Respondents: Approximately 500 respondents per year. The number of respondents may be much larger in emergency circumstances when lives are endangered by war, civil unrest, or natural disaster, but such circumstances are extraordinary and the number of respondents cannot be predicted.

Average Hours Per Response: 10 minutes.

Total Estimated Burden: 83.3 hours under usual circumstances.

Public comments are being solicited to permit the agency to:

• Evaluate whether the proposed information collection is necessary for the proper performance of the functions of the agency.

• Evaluate the accuracy of the agency's estimate of the burden of the proposed collection, including the validity of the methodology and assumptions used.

• Enhance the quality, utility, and clarity of the information to be collected.

• Minimize the reporting burden on those who are to respond, including through the use of automated collection techniques or other forms of technology.

FOR FURTHER INFORMATION CONTACT: Copies of the proposed information collection and supporting documents may be obtained from Michael Meszaros, who may be reached on 202-312-9750. Public comments, or requests for additional information, regarding the collection listed in this notice should be directed to the State Department Desk Officer, Officer of Information and Regulatory Affairs, Office of Management and Budget (OMB), Washington, DC 20530, who may be reached on 202-395-3897.

Dated: September 29, 2003.
Maura Harty,
Assistant Secretary, Bureau of Consular Affairs, Department of State.

[FR Doc. 03-25278 Filed 10-3-03; 8:45 am]

BILLING CODE 4710-06-P